DEPARTMENT OF HEALTH AND HUMAN SERVICES

National Institutes of Health

National Eye Institute; Notice of Meeting

Pursuant to section 10(d) of the Federal Advisory Committee Act, as amended, notice is hereby given of a meeting of the National Advisory Eye Council.

The meeting will be held as a virtual meeting on June 11, 2021 and is open to the public as indicated below. The open session (event) will be videocast by NIH with sign language interpretation and closed captioning at: https://videocast.nih.gov/watch=41985. The agenda can be found at: https://www.nei.nih.gov/about/advisory-committees/national-advisory-eye-council-naec/national-advisory-eye-council-naec-meeting-agenda.

A portion of this meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Eye Council National Institutes of Health.

Date: June 11, 2021.

Open Session: 9:30 a.m. to 1:30 p.m.

Agenda: Presentation of the NEI Director's report and discussion of NEI programs.

Place: National Institutes of Health 6700 Rockledge Drive, Suite 3400 Bethesda, MD 20892 (Virtual Meeting).

Date: June 11, 2021.

Closed Session: 2:00 a.m. to 4:00 p.m.

Agenda: To review and evaluate grant applications.

Place: National Institutes of Health, 6700 Rockledge Drive, Suite 3400, Bethesda, MD 20892, (Virtual Meeting).

Contact Person: Kathleen C. Anderson, Ph.D., Director, Division of Extramural Activities, National Eye Institute, National Institutes of Health, 6700B Rockledge Drive, Room 3440, Bethesda, MD 20892, 301-451-2020, kanders1@nei.nih.gov.

Information is also available on the NEI Council page: https://www.nei.nih.gov/about/advisory-committees/national-advisory-eye-council-naec, where an agenda and any additional information for the meeting will be posted when available.

(Catalogue of Federal Domestic Assistance Program Nos. 93.867, Vision Research, National Institutes of Health, HHS)

Dated: May 3, 2021.
Melanie J. Pantoja,
Program Analyst, Office of Federal Advisory Committee Policy.

[FR Doc. 2021-09601 Filed 5-5-21; 8:45 am]

BILLING CODE 4140-01-P